U.S.-CHINA ECONOMIC AND SECURITY REVIEW COMMISSION

Notice of Open Public Roundtable

AGENCY: U.S.-China Economic and Security Review Commission.

ACTION: Notice of open public roundtable.

SUMMARY: Notice is hereby given of the following roundtable of the U.S.-China Economic and Security Review Commission. The Commission is mandated by Congress to investigate, assess, and report to Congress annually on “the national security implications of the economic relationship between the United States and the People's Republic of China.” Pursuant to this mandate, the Commission will hold a public roundtable in Washington, DC on July 12, 2017 on “The Health of China's Economy”.

DATES: The meeting is scheduled for Wednesday, July 12, 2017, from 10:00 a.m. to 12:00 p.m.

ADDRESSES: 444 North Capitol Street NW., Room 285, Washington, DC. A detailed agenda for the roundtable will be posted on the Commission's Web site at www.uscc.gov. Also, please check the Commission's Web site for possible changes to the roundtable schedule. Reservations are not required to attend the roundtable.

FOR FURTHER INFORMATION CONTACT: Any member of the public seeking further information concerning the roundtable should contact Leslie Tisdale, 444 North Capitol Street NW., Suite 602, Washington, DC 20001; telephone: 202-624-1496, or via email at ltisdale@uscc.gov. Reservations are not required to attend the roundtable.

SUPPLEMENTARY INFORMATION: Background: This roundtable will examine three interrelated topics: The overall health of China's economy, the impact of China's economic slowdown on the global economic system, and the implications for the U.S. economy and the U.S.-China economic relationship. The roundtable will be co-chaired by Vice Chairman Dennis Shea and Commissioner Michael Wessel. Any interested party may file a written statement by July 12, 2017, by mailing to the contact information above. A portion of the roundtable will include a question and answer period between the Commissioners and the panelists.

Authority: Congress created the U.S.-China Economic and Security Review Commission in 2000 in the National Defense Authorization Act (Public Law 106-398), as amended by Division P of the Consolidated Appropriations Resolution, 2003 (Public Law 108-7), as amended by Public Law 109-108 (November 22, 2005), as amended by Public Law 113-291 (December 19, 2014).

Dated: June 28, 2017.
Michael Danis,
Executive Director, U.S.-China Economic and Security Review Commission.

[FR Doc. 2017-13993 Filed 6-30-17; 8:45 am]

BILLING CODE 1137-00-P